DEPARTMENT OF AGRICULTURE

Animal and Plant Health Inspection Service

[Docket No. APHIS-2014-0008]

Notice of Decision To Authorize the Importation of Fresh Figs From Mexico Into the Continental United States

AGENCY: Animal and Plant Health Inspection Service, USDA.

ACTION: Notice.

SUMMARY: We are advising the public of our decision to authorize the importation of fresh figs from Mexico into the continental United States. Based on the findings of a pest risk analysis, which we made available to the public to review and comment through a previous notice, we have concluded that the application of one or more designated phytosanitary measures will be sufficient to mitigate the risks of introducing or disseminating plant pests or noxious weeds via the importation of fresh figs from Mexico.

DATES: Effective March 30, 2015.

FOR FURTHER INFORMATION CONTACT: Mr. George Apgar Balady, Senior Regulatory Policy Specialist, PPQ, APHIS, 4700 River Road Unit 133, Riverdale, MD 20737-1231; (301) 851-2240.

SUPPLEMENTARY INFORMATION: Under the regulations in “Subpart—Fruits and Vegetables” (7 CFR 319.56-1 through 319.56-71, referred to below as the regulations), the Animal and Plant Health Inspection Service (APHIS) prohibits or restricts the importation of fruits and vegetables into the United States from certain parts of the world to prevent plant pests from being introduced into or disseminated within the United States.

Section 319.56-4 contains a performance-based process for approving the importation of commodities that, based on the findings of a pest risk analysis, can be safely imported subject to one or more of the designated phytosanitary measures listed in paragraph (b) of that section.

In accordance with that process, we published a notice ¹ in the Federal Register on June 12, 2014 (79 FR 33716-33717, Docket No. APHIS-2014-0008), in which we announced the availability, for review and comment, of a pest list and risk management document (RMD) regarding the risks associated with the importation into the continental United States of fresh figs from Mexico.

¹ To view the notice, pest list, RMD, and comments we received, go to http://www.regulations.gov/#!docketDetail;D=APHIS-2014-0008.

We solicited comments on the pest list and RMD for 60 days, ending on August 11, 2014. We received three comments by that date, from an exporter, an organization of State plant regulatory agencies, and a State department of agriculture. The comments are discussed below.

The pest list identified six quarantine pests that are likely to follow the pathway of fresh figs imported from Mexico into the continental United States: Anastrepha fraterculus, A. ludens, A. serpentina, Ceratitis capitata, Maconellicoccus hirsutus, and Nipaecoccus viridis.

Two commenters acknowledged that the mitigation measures described in the RMD would likely be enough to mitigate the risks of all six quarantine pests, but requested that figs from Mexico not be distributed in Florida due to the risk of an accidental or incidental introduction of quarantine pests into the State.

As described in the RMD, we are requiring figs from Mexico to be treated with irradiation to neutralize all plant pests of the class Insecta. Section 305.9 specifies the requirements for the irradiation of imported commodities. These requirements provide effective safeguards for articles irradiated either prior to or after arrival in the United States. In addition, each consignment is subject to inspection at the U.S. ports of entry and must be found free of all quarantine pests. We are confident that these requirements will adequately mitigate the risks associated with the importation of fresh figs from Mexico.

One commenter asked what phytosanitary measures would apply to figs exported from fruit fly-free areas of Mexico and whether those treatments will negate the figs' organic status.

Under § 319.56-5, certain fruits and vegetables may be imported into the United States provided that the fruits or vegetables originate from an area that is free of a specific pest or pests. As such, figs produced in fruit fly-free areas of Mexico would be eligible for importation into the United States without treatment for fruit flies. However, the figs would be subject to the labeling, certification, and safeguarding requirements of § 319.56-5(e), the general requirements in § 319.56-3, and would have to be inspected and found free of M. hirsutus and N. viridis.

Therefore, in accordance with § 319.56-4(c)(2)(ii), we are announcing our decision to authorize the importation of fresh figs from Mexico into the continental United States subject to the following phytosanitary measures:

• The figs may be imported into the continental United States in commercial consignments only.

• The figs must be irradiated in accordance with 7 CFR part 305 with a minimum absorbed dose of 150 Gy.

• If irradiation treatment is applied outside the United States, each consignment of fruit must be jointly inspected by APHIS and the national plant protection organization (NPPO) of Mexico and accompanied by a phytosanitary certificate (PC) attesting that the fruit received the required irradiation treatment. The PC must also include an additional declaration stating that the consignment was inspected and found free of M. hirsutus and N. viridis.

• If irradiation treatment is applied upon arrival in the United States, each consignment of fruit must be inspected by the NPPO of Mexico prior to departure and accompanied by a PC attesting that the fruit was inspected and found free of M. hirsutus and N. viridis.

• The commodity is subject to inspection at the U.S. port of entry.

These conditions will be listed in the Fruits and Vegetables Import Requirements database (available at http://www.aphis.usda.gov/favir). In addition to these specific measures, figs from Mexico will be subject to the general requirements listed in § 319.56-3 that are applicable to the importation of all fruits and vegetables.

Authority: 7 U.S.C. 450, 7701-7772, and 7781-7786; 21 U.S.C. 136 and 136a; 7 CFR 2.22, 2.80, and 371.3.

Done in Washington, DC, this 25th day of March 2015.
Michael C. Gregoire,
Acting Administrator, Animal and Plant Health Inspection Service.

[FR Doc. 2015-07231 Filed 3-27-15; 8:45 am]

BILLING CODE 3410-34-P